FEDERAL COMMUNICATIONS COMMISSION

Notice of Public Information Collection(s) Being Reviewed by the Federal Communications Commission for Extension Under Delegated Authority

November 14, 2003.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility and clarity of the information collected; and (d) ways to minimize the burden of the collection of information on the respondents, including the use of automated collection techniques or other forms of information technology.

DATES: Written Paperwork Reduction (PRA) comments should be submitted on or before January 26, 2004. If you anticipate that you will be submitting comments, but find it difficult to do so within the period of time allowed by this notice, you should advise the contact listed below as soon as possible.

ADDRESSES: Direct all Paperwork Reduction Act (PRA) comments to Les Smith, Federal Communications Commission, Room 1-A804, 445 12th Street SW., Washington, DC 20554 or via the Internet to Leslie.Smith@fcc.gov.

FOR FURTHER INFORMATION CONTACT: For additional information or copies of the information collection(s), contact Les Smith at (202) 418-0217 or via the Internet at Leslie.Smith@fcc.gov.

SUPPLEMENTARY INFORMATION:

OMB Control Number: 3060-0780.

Title: Uniform Rate-Setting Methodology.

Form Number: N/A.

Type of Review: Extension of a currently approved collection.

Respondents: Business or other for-profit entities; and State, Local and Tribal Government.

Number of Respondents: 160.

Estimated Time per Response: 20 to 50 hours.

Frequency of Response: On occasion reporting requirement.

Total Annual Burden: 3,500 hours.

Total Annual Cost: None.

Needs and Uses: The uniform rates proposals will be filed with the Commission and served on all affected local franchise areas (LFAs). The Commission will review the rate proposals, comments received from the LFAs, and replies received from cable operators in considering whether the interests of subscribers will be protected under the new rate proposal.

OMB Control Number: 3060-0427.

Title: Section 73.3523, Dismissal of Applications in Renewal Proceedings.

Form Number: N/A.

Type of Review: Extension of currently approved collection.

Respondents: Business or other for-profit entities.

Number of Respondents: 1.

Estimated time per response: 1 hour.

Frequency of Response: On occasion reporting requirements.

Total Annual Burden: 1 hour.

Total Annual Costs: $1,600.

Needs and Uses: 47 CFR 73.3523 requires an applicant for a construction permit to obtain approval from the FCC to dismiss or withdraw its application when that application is mutually exclusive with a renewal application. This request for approval must contain a copy of any written agreement and an affidavit stating that it has not received any consideration (pre-Initial Decision), or it has not received any consideration in excess of legitimate and prudent expenses (post-Initial Decision) for the dismissal/withdrawal of its application. In addition, within 5 days of the applicant's request for approval, each remaining competing applicant and the renewal applicant must submit an affidavit certifying that it has not paid any consideration (pre-Initial Decision), or that it has not paid consideration in excess of legitimate and prudent expenses (post-Initial Decision) for the dismissal/ withdrawal of a competing application. The FCC staff uses the data to ensure that an application was filed under appropriate circumstances and not to extract payments prohibited by the Commission.

OMB Control Number: 3060-0561.

Title: Section 76.913, Assumption of Jurisdiction by the Commission.

Form Number: N/A.

Type of Review: Extension of a currently approved collection.

Respondents: State, local or tribal government.

Number of Respondents: 10.

Estimated Time per Response: 8 hours.

Frequency of Response: On occasion reporting requirements.

Total Annual Burden: 80 hours.

Total Annual Cost: None.

Needs and Uses: 47 CFR section 76.913 permits a local franchising authority (LFA) that is unable to meet certification standards to petition the FCC to regulate the basic service cable rates of its franchisee. The FCC uses this information collected under this control number to identify situations where the Commission should exercise jurisdiction over basic service and equipment rates in place of local franchising authority. Without this information, the basic cable rates of some franchising areas, which are not subject to effective competition, would remain unregulated in contravention of the goals of the 1992 Cable Act.

Federal Communications Commission.
Marlene H. Dortch,
Secretary.

[FR Doc. 03-29350 Filed 11-24-03; 8:45 am]

BILLING CODE 6712-01-P